DEPARTMENT OF COMMERCE

National Oceanic and Atmospheric Administration

50 CFR Part 622

[Docket No. 140214145-4145-01]

RIN 0648-BD81

Fisheries of the Caribbean, Gulf of Mexico, and South Atlantic; Coral, Coral Reefs, and Live/Hard Bottom Habitats of the South Atlantic Region; Amendment 8

AGENCY: National Marine Fisheries Service (NMFS), National Oceanic and Atmospheric Administration (NOAA), Commerce.

ACTION: Proposed rule; request for comments.

SUMMARY: NMFS proposes regulations to implement Amendment 8 to the Fishery Management Plan for Coral, Coral Reefs, and Live/Hard Bottom Habitats of the South Atlantic Region (FMP) (Amendment 8), as prepared by the South Atlantic Fishery Management Council (Council). If implemented, this rule would expand portions of the northern and western boundaries of the Oculina Bank habitat area of particular concern (HAPC) (Oculina Bank HAPC) and allow transit through the Oculina Bank HAPC by fishing vessels with rock shrimp onboard; modify vessel monitoring systems (VMS) requirements for rock shrimp fishermen transiting through the Oculina Bank HAPC; expand a portion of the western boundary of the Stetson Reefs, Savannah and East Florida Lithotherms, and Miami Terrace Deepwater Coral HAPC (CHAPC) (Stetson-Miami Terrace CHAPC), including modifications to the shrimp access area A, which is proposed to be renamed “shrimp access area 1”; and expand a portion of the northern boundary of the Cape Lookout Lophelia Banks Deepwater CHAPC (Cape Lookout CHAPC). In addition, this proposed rule makes a minor administrative change to the names of the shrimp fishery access areas. The purpose of this rule is to increase protections for deepwater coral based on new information for deepwater coral resources in the South Atlantic.

DATES: Written comments must be received on or before July 3, 2014.

ADDRESSES: You may submit comments on the proposed rule, identified by “NOAA-NMFS-2014-0065”, by any of the following methods:

• Electronic submissions: Submit all electronic public comments via the Federal e-Rulemaking Portal. Go to www.regulations.gov/#!docketDetail;D=NOAA-NMFS-2014-0065, click the “Comment Now!” icon, complete the required fields, and enter or attach your comments.

• Mail: Submit written comments to Karla Gore, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of Amendment 8, which include an environmental assessment and a regulatory impact review, may be obtained from the Southeast Regional Office Web site at http://sero.nmfs.noaa.gov.

Comments regarding the burden-hour estimates or other aspects of the collection-of-information requirements contained in this proposed rule may be submitted in writing to Anik Clemens, Southeast Regional Office, NMFS, 263 13th Avenue South, St. Petersburg, FL 33701; and OMB, by email at OIRA Submission@omb.eop.gov, or by fax to 202-395-7285.

FOR FURTHER INFORMATION CONTACT: Karla Gore, Southeast Regional Office, telephone: 727-824-5305.

SUPPLEMENTARY INFORMATION: South Atlantic coral is managed under the FMP. The FMP is implemented under the authority of the Magnuson-Stevens Fishery Conservation and Management Act (Magnuson-Stevens Act) by regulations at 50 CFR part 622.

Background

Recent scientific exploration has identified areas of high relief features and hard bottom habitat outside the boundaries of the existing Oculina Bank HAPC, Stetson-Miami Terrace CHAPC, and the Cape Lookout CHAPC. During its October 2011 meeting, the Council's Coral Advisory Panel (AP) (Coral AP) recommended the Council revisit the boundaries of the Oculina Bank HAPC, Stetson-Miami Terrace CHAPC, and the Cape Lookout CHAPC to incorporate these areas of additional deepwater coral habitat that were previously uncharacterized. The Council reviewed the recommendations for expansion of these areas and associated VMS analyses of rock shrimp fishing activity, and approved the measures for public scoping through Comprehensive Ecosystem-Based Amendment 3. The Council subsequently moved these measures into Amendment 8. The Council's Coral, Habitat, Deepwater Shrimp, and Law Enforcement APs worked collectively to refine the recommendations from the public scoping process and provided input to the Council on expanding the HAPC and CHAPC boundaries, and establishing a transit provision for the Oculina Bank HAPC.

Management Measures Contained in This Proposed Rule

If implemented, this proposed rule would expand the boundaries of the Oculina Bank HAPC and allow transit through the Oculina Bank HAPC by fishing vessels with rock shrimp onboard; modify the VMS requirements for rock shrimp fishermen transiting the Oculina Bank HAPC; expand the boundaries of the Stetson-Miami Terrace CHAPC and the Cape Lookout CHAPC; and make a minor administrative change to the names of the shrimp fishery access areas. The purpose of these measures is to provide better protection for deepwater coral ecosystems.

Expansion of Oculina Bank HAPC

The Oculina Bank HAPC was first established in 1984, with implementation of the FMP (49 FR 29607, August 22, 1984). Within the Bank HAPC, it is unlawful to use a bottom longline, bottom trawl, dredge, pot or trap, and if aboard a fishing vessel it is unlawful to anchor, use an anchor and chain, or use a grapple and chain. Additionally, it is unlawful to fish for or possess rock shrimp in or from the Oculina Bank HAPC on board a fishing vessel. Currently, the Oculina Bank HAPC is a 289-square mile (749-square km) area. If implemented, this proposed rule would increase the size of the Oculina Bank HAPC by 405.42 square miles (1,050 square km), for a total area of 694.42 square miles (1,798.5 square km) and, except for a limited transit provision described below, would extend these prohibitions to the larger area, and increase protection of coral.

Transit Provision Through Oculina Bank HAPC

If implemented, this proposed rule would establish a transit provision to allow fishing vessels with rock shrimp onboard to transit the Oculina Bank HAPC under limited circumstances. To be considered to be in transit and thus excepted from the prohibition on possessing rock shrimp in the Oculina Bank HAPC, a vessel must have a valid commercial permit for rock shrimp, the vessel's gear would be required to be appropriately stowed (i.e., doors and nets would be required to be out of water and onboard the deck or below the deck of the vessel), and the vessel would be required to maintain a direct and non-stop continuous course through the HAPC at a minimum speed of 5 knots, as determined by an operating VMS approved for the South Atlantic rock shrimp fishery onboard the vessel. In addition, this rule proposes to modify the VMS requirements to require all vessels with rock shrimp onboard that choose to transit the Oculina Bank HAPC to have a VMS unit that registers a VMS ping (signal) rate of 1 ping per 5 minutes. Vessels with newer VMS units would not be required to purchase VMS units because those units are capable of registering a VMS ping (signal) rate of 1 ping per 5 minutes, however, they would be required to reconfigure or upgrade their VMS hardware/software to generate the higher ping rate. Vessels with older VMS units are not capable of producing the required ping rate and these vessels would be required to purchase a newer unit in order to be able to transit through the Oculina Bank HAPC with rock shrimp on board. Please note that any newly installed VMS unit must comply with the regulations at 50 CFR 622.205(b) regarding installation by a qualified marine electrician, and the vessel owner or operator must comply with current reporting regulations. This transit provision would allow rock shrimp fishermen to access additional rock shrimp fishing grounds in less time using less fuel than if the fishermen were required to travel around the Oculina Bank HAPC.

Expansion of the Stetson-Miami Terrace CHAPC and the Cape Lookout CHAPC

The Stetson-Miami Terrace CHAPC and the Cape Lookout CHAPC were established in 2010 through the Comprehensive Ecosystem-Based Amendment 1 to protect deepwater coral ecosystems (75 FR 35330, June 22, 2010). Within the CHAPCs, including the Stetson-Miami Terrace and Cape Lookout CHAPCs, it is currently unlawful to use a bottom longline, trawl (mid-water or bottom), dredge, pot or trap, and if aboard a fishing vessel, it is unlawful to anchor, use an anchor and chain, or use a grapple and chain. Additionally, it is currently unlawful to fish for or possess coral in or from the CHAPCs on board a fishing vessel.

If implemented, this proposed rule would increase the size of the Stetson-Miami Terrace CHAPC by 490 square miles (1,269 square km), for a total area of 24,018 square miles (62,206 square km), and increase the size of the Cape Lookout CHAPC by 10 square miles (26 square km), for a total area of 326 square miles (844 square km), and would extend the gear prohibitions to the larger area to increase protection of deepwater coral ecosystems. The expansion of the Stetson-Miami Terrace CHAPC would also provide royal red shrimp fishermen a new zone adjacent to the existing shrimp access area A (proposed to be renamed “shrimp access area 1”, as discussed in the next section of this preamble) within which they can haul back fishing gear without drifting into an area where their gear is prohibited. Thus, this shrimp fishery access area would be expanded to include the new haul-back zone if this rule is implemented.

Other Changes Contained in This Proposed Rule Not Contained in Amendment 8

This rule also proposes to revise the names of the shrimp fishery access areas in the regulations implemented through the Comprehensive Ecosystem-Based Amendment 1 (75 FR 35330, June 22, 2010) to match the names in the FMP. Currently, in 50 CFR 622.224(c)(3), the four shrimp fishery access areas are titled “shrimp access area A-D”. If implemented, this proposed rule would revise 50 CFR 622.224(c)(3), to change the four shrimp fishery access areas titles to “shrimp access area 1-4”.

Classification

Pursuant to section 304(b)(1)(A) of the Magnuson-Stevens Act, the NOAA Assistant Administrator for Fisheries (AA) has determined that this proposed rule is consistent with Amendment 8, the FMP, the Magnuson-Stevens Act, and other applicable law, subject to further consideration after public comment.

This proposed rule has been determined to be not significant for purposes of Executive Order 12866.

The Chief Counsel for Regulation of the Department of Commerce certified to the Chief Counsel for Advocacy of the Small Business Administration that this proposed rule, if implemented, would not have a significant economic impact on a substantial number of small entities. The factual basis for this determination is as follows:

The purpose of this proposed rule is to address recent discoveries of deepwater coral resources and protect deepwater coral ecosystems in the Council's jurisdiction from activities that could compromise their condition. The Magnuson-Stevens Act provides the statutory basis for this proposed rule.

This proposed rule, if implemented, is expected to directly affect up to 700 vessels that commercially harvest snapper-grouper species and up to 104 vessels that commercially harvest rock shrimp in the affected areas of the exclusive economic zone (EEZ) in the South Atlantic. Among the vessels that harvest rock shrimp, an estimated 9 vessels also harvest royal red shrimp. The average vessel involved in commercial snapper-grouper harvest is estimated to earn approximately $28,700 (2012 dollars) in annual gross revenue, and the average vessel involved in rock shrimp harvest is estimated to earn approximately $20,500 (2012 dollars) in annual gross revenue. The average annual gross revenue for vessels that harvest both rock shrimp and royal red shrimp is estimated to be approximately $113,000 (2012 dollars). NMFS has not identified any other small entities that would be expected to be directly affected by this proposed rule.

The Small Business Administration (SBA) has established size criteria for all major industry sectors in the United States including seafood dealers and harvesters. A business involved in commercial finfish fishing is classified as a small business if it is independently owned and operated, is not dominant in its field of operation (including its affiliates), and has combined annual receipts not in excess of $19.0 million (NAICS code 114111, Finfish Fishing). The receipts threshold for a business involved in shrimp fishing is $5.0 million (NAICS code 114112, Shellfish Fishing). These receipts thresholds are the result of a final rule issued by the SBA on June 20, 2013 (78 FR 37398), that went into effect on July 22, 2013, and increased the size standard for Finfish Fishing from $4.0 million to $19.0 million and the size standard for Shellfish Fishing from $4.0 million to $5.0 million. Because the average annual gross revenues for the commercial fishing operations expected to be directly affected by this proposed rule are significantly less than the SBA revenue threshold, all these businesses are determined, for the purpose of this analysis, to be small business entities.

This proposed rule contains four separate actions. The first action would expand the boundaries of the Oculina Bank HAPC. Expansion of the Oculina Bank HAPC would be expected to affect vessels that harvest snapper-grouper, rock shrimp, and royal red shrimp because some fishermen have historically harvested these species in this area and would be prevented by the expansion from continuing to fish here. The expected maximum potential reduction in total gross revenue from snapper-grouper species as a result of the proposed expansion of the Oculina Bank HAPC would be approximately $56,000 (2012 dollars), or less than 0.3 percent of the total average annual revenue from snapper-grouper species. The expected maximum potential reduction in revenue from snapper-grouper species is minimal, and fishermen may be able to absorb the reduction or adapt their fishing practices to the expansion of the Oculina Bank HAPC and increase their fishing effort, and harvest, in other locations to mitigate the impact of the reduction. Additionally, fishermen may benefit from spill-over effects (increased total harvest or more cost efficient harvest) of the enhanced productivity of the protected Oculina Bank HAPC.

All vessels that harvest royal red shrimp are expected to also harvest rock shrimp. Royal red shrimp are not managed in a fishery management plan by the Council. Because royal red shrimp are not managed in a fishery management plan by the Council, neither logbooks nor VMS units are required to harvest royal red shrimp. As a result, NMFS cannot determine with available data what portion of the average annual royal red harvest may be affected by the proposed expansion of the Oculina Bank HAPC. However, the primary effect of the proposed expansion of the Oculina Bank HAPC, i.e., the exclusion of traditional fishing activities from this area and the reduction of associated revenues, as identified through public comment during the development of this proposed action and the use of VMS data, would be expected to be on the harvest of rock shrimp and not the harvest of royal red shrimp. This proposed rule is expected to reduce the total revenue from rock shrimp for all potentially affected rock shrimp fishermen (104 vessels) by a maximum of approximately $189,500 (2012 dollars), or approximately 8.5 percent of the total average annual gross revenue from rock shrimp ($20,500; 2012 dollars). Although the revenue from royal red shrimp also may be affected, as discussed above, the average annual gross revenue for vessels harvesting both rock shrimp and royal red shrimp ($113,000; 2012 dollars) is substantially higher than the average annual gross revenue for vessels that do not harvest royal red shrimp. As a result, the economic effects of the proposed expansion of the Oculina Bank HAPC on vessels that harvest royal red shrimp are expected to be minor.

The second action would establish transit provisions through the Oculina Bank HAPC for a vessel with rock shrimp on board. This proposed rule would allow vessel transit through the Oculina Bank HAPC by a vessel with rock shrimp on board if the vessel maintains a direct and non-stop continuous course at a minimum speed of 5 knots as determined by an operating VMS approved for the South Atlantic rock shrimp fishery onboard the vessel that registers a VMS ping (signal) rate of 1 ping per 5 minutes, and if that vessel's gear is appropriately stowed (i.e., doors and nets would be required to be out of water and onboard the deck or below the deck of the vessel). NMFS estimates this VMS ping rate, which is more frequent than that currently required, will result in increased costs for vessels choosing to transit if the vessel's current VMS unit cannot ping at the acceptable rate (i.e., 5 minutes). Therefore, vessels will need to update their VMS unit or purchase a new VMS unit to meet the VMS unit ping rate requirement if they choose to transit the Oculina Bank HAPC with rock shrimp on board. For all vessels, the communication cost also would increase by an unknown amount depending on the frequency of transit. The purchase and installation of these new units and upgrades, and the decision to transit and incur increased communication costs would be voluntary. The use of VMS units on rock shrimp vessels has been required since 2003. As a result, all affected vessels are expected to have extensive experience using VMS units and are expected to already have captains or crew with the appropriate skills and training to use VMS equipment.

At the time when this rule was drafted, there were 104 permits issued in the rock shrimp fishery; however, only 79 are currently active in the fishery. Of the 79 active vessels, 57 vessels currently use a VMS unit capable of producing this ping rate. If these vessels choose to transit through the Oculina Bank HAPC with rock shrimp onboard, they would be required to spend approximately $200 for hardware or software upgrades to increase the ping rate, and approximately $100 for postage for delivery of the VMS unit to and from the vendor. Because the decision to transit would be voluntary, a vessel owner would be expected to schedule the upgrade during a period when fishing does not normally occur. As a result, the upgrade would not be expected to adversely affect fishing time or revenue. The remaining 22 vessels do not currently use a VMS unit capable of producing this ping rate. If these vessels choose to transit through the Oculina Bank HAPC with rock shrimp onboard these vessels would be expected to have to incur new expenses of approximately $2,795 to $3,595 for purchase and installation of a new VMS unit and appropriate software. Any vessel transiting the Oculina Bank HAPC with rock shrimp onboard also would be expected to incur increased communication costs because of the increased communication (ping) rate of their VMS unit. The total amount of the increased communication cost would depend on how frequently a vessel transits the area. Although these expenses would be required to allow transit through the Oculina Bank HAPC with rock shrimp onboard, all of these expenses would be voluntarily incurred because the proposed rule would not require that vessels transit the area. Further, the net economic effect per entity of transiting would be expected to be positive. Transit through the Oculina Bank HAPC would be expected to reduce operating expenses by allowing a vessel to avoid time-consuming and costly travel around the area. Also, revenue may be increased if a reduction in travel time allows longer fishing. Overall, a fisherman would only choose to incur the increased VMS costs associated with transit if they concluded they would receive a net increase in economic benefits, regardless of the source of these benefits. As a result, this component of the proposed rule would be expected to have a direct positive economic effect on all affected small entities.

Combined, the expected effects of the proposed expansion of the Oculina Bank HAPC and proposed transit provisions for vessels with rock shrimp on board would be expected to range from a minor short term reduction in the average annual gross revenue from rock shrimp to a net positive economic effect on the average rock shrimp vessel. Although the proposed expansion of the Oculina Bank HAPC would be expected to reduce rock shrimp revenue from this area, the proposed transit provisions would be expected to reduce operating costs and potentially increase rock shrimp revenue by allowing more time to harvest rock shrimp from other areas where permitted. As a result, these two components of this proposed rule collectively would not be expected to have a significant adverse economic effect on a substantial number of small entities.

The third action in this proposed rule would expand the boundaries of the Stetson-Miami Terrace CHAPC by 490 square miles (1,269 square km), for a total area of 24,018 square miles (62,206 square km). Fishing for snapper-grouper species does not occur normally in this area and fishing for other finfish or golden crab would not be expected to be affected by the proposed expansion of the Stetson-Miami Terrace CHAPC. This action would also allow a gear haul back/drift zone to accommodate the royal red shrimp fishery that occurs in this area. As a result, this component of the proposed rule would not be expected to reduce the revenue of any small entities.

The fourth action would expand the boundaries of the Cape Lookout CHAPC by 10 square miles (26 square km), for a total area of 326 square miles (844 square km). Similar to the proposed expansion of the Stetson-Miami Terrace CHAPC, fishing for snapper-grouper species does not occur normally in this area and fishing for other finfish or golden crab would not be expected to be affected because of the small size of the expansion and availability of nearby areas with similar fishable habitat for these species. As a result, this component of the proposed rule would not be expected to reduce the revenue of any small entities.

Based on the discussion above, NMFS determines that this proposed rule, if implemented, would not have a significant economic effect on a substantial number of small entities. As a result, an initial regulatory flexibility analysis is not required and none has been prepared.

Notwithstanding any other provision of law, no person is required to respond to, nor shall a person be subject to a penalty for failure to comply with, a collection-of-information subject to the requirements of the Paperwork Reduction Act (PRA), unless that collection-of-information displays a currently valid Office of Management and Budget (OMB) control number.

This proposed rule contains collection-of-information requirements subject to the PRA. NMFS is revising the collection-of-information requirements under OMB control number 0648-0205. Since 2003, NMFS has required VMS be installed and maintained on commercially permitted South Atlantic rock shrimp vessels. NMFS estimates the increased VMS ping (signal) rate that would be required by this proposed rule would result in increased costs for vessels that choose to transit through the Oculina Bank HAPC and whose current VMS unit does not have the capability to ping at the higher rate (5 minutes) because those vessels would need to update their current VMS unit or purchase a new VMS unit. Currently, all 79 vessels actively participating in the rock shrimp fishery have a VMS unit. Of those vessels, 22 have older VMS units purchased in 2003, which would need to be upgraded to transit through the Oculina Bank HAPC with rock shrimp onboard. Replacement VMS units would not be eligible for reimbursement by the NMFS Office of Law Enforcement VMS fund. The 22 vessels needing to upgrade their VMS units would have to pay for the installation, maintenance, and increased communications charges associated with having an upgraded VMS. Assuming all 22 vessels needing to upgrade their VMS units choose the lowest priced VMS unit available at $2,495 each, the total cost of 22 units is expected to be $54,890. The additional cost of installation would be approximately $300 for each of the 22 vessels ($6,600 total for all 22 units) for a total minimum cost (VMS unit and installation) of $2,795 for each of the 22 vessels and $61,490 for the fishery to upgrade to the least expensive necessary current hardware and software. Currently, all rock shrimp vessels, regardless of whether they must replace their VMS units, would be expected to experience an increase in costs if Amendment 8 and this proposed rule are implemented. Even the 57 vessels with the VMS units that do not need to be replaced would incur charges of approximately $150 to $250 per VMS unit to reconfigure or upgrade hardware/software to implement the more frequent ping rate if they choose to transit through the Oculina Bank HAPC with rock shrimp onboard. Reconfiguration or upgrading could include postage costs or delays if the VMS unit must be transported to the vendor to perform upgrades. Approximating the cost of each upgrade by using the medium upgrade cost of $200 per vessel for 57 VMS units, and the mail cost of $100 per vessel for the 57 vessels for postage to mail to the vendor and mail back from the vendor the VMS unit being sent for reconfiguring or upgrading ($50 for postage to mail to and $50 to mail back from the vendor for each of the 57 vessels) would be a one-time total cost of $17,100. If this proposed rule is implemented, the total cost of hardware and software upgrades required to allow transit for all vessels in the fleet is estimated to be $78,590. Some, if not all, of the increased costs of upgrading hardware and software, plus increased communications charges to transit through the Oculina Bank HAPC would be offset by not needing to transit around the Oculina Bank HAPC to reach additional rock shrimp fishing grounds. Allowing transit should increase the amount of time on a trip spent fishing, as well as provide savings on fuel and other vessel maintenance costs.

Only a VMS that has been approved by NMFS for use in the South Atlantic rock shrimp fishery may be used, and it must be properly registered and activated with an approved communications provider for the new vessel. Additionally, it must be installed by a qualified marine electrician. When reinstalling and reactivating the NMFS-approved VMS, the vessel owner or operator must: (1) Follow procedures indicated on an installation and activation checklist, available from NMFS, Office for Law Enforcement, Southeast Region, St Petersburg, FL 33701; phone: (727) 824-5347; (2) submit to NMFS, Office for Law Enforcement, Southeast Region, St Petersburg, FL, a statement certifying compliance with the checklist, as prescribed on the checklist; and (3) submit to NMFS, Office for Law Enforcement, Southeast Region, St Petersburg, FL 33701, a vendor-completed installation certification checklist, available from NMFS, Office for Law Enforcement, Southeast Region, St Petersburg, FL 33701; phone: (727) 824-5347. On a one-time basis, the burden on each vessel owner or operator would be 15 minutes to complete a compliance checklist and certification plus 4 hours for initial installation (4.25 hours per 22 vessels in the rock shrimp fishery that would need to upgrade their VMS units for a total of 93.5 hours). In addition, each of the 79 vessels will incur 2 hours per year for VMS maintenance for a total of 158 hours. If this proposed rule is implemented, the total time-burden of hardware and software upgrades required to allow transit for all vessels in the fleet is estimated to be 251.5 hours (93.5 hours plus 158 hours).

These requirements have been submitted to OMB for approval. NMFS seeks public comment regarding: Whether this proposed collection-of-information is necessary for the proper performance of the functions of the agency, including whether the information will have practical utility; the accuracy of the burden estimate; ways to enhance the quality, utility, and clarity of the information to be collected; and ways to minimize the burden of the collection-of-information, including through the use of automated collection techniques or other forms of information technology. Send comments regarding the burden estimate or any other aspect of the collection-of-information requirement, including suggestions for reducing the burden, to NMFS and to OMB (see ADDRESSES).

List of Subjects in 50 CFR Part 622

Coral, CHAPC, Coral Reefs, Fisheries, Fishing, Reporting and recordkeeping requirements, HAPC, Shrimp, South Atlantic.

Dated: May 27, 2014.
Samuel D. Rauch III,
Deputy Assistant Administrator for Regulatory Programs, National Marine Fisheries Service.

For the reasons set out in the preamble, 50 CFR part 622 is proposed to be amended as follows:

PART 622—FISHERIES OF THE CARIBBEAN, GULF OF MEXICO, AND SOUTH ATLANTIC

1. The authority citation for part 622 continues to read as follows:

Authority: 16 U.S.C. 1801 et seq.

2. In § 622.224, paragraphs (b)(1), (c)(1)(i), (c)(1)(iii), (c)(3)(i), (c)(3)(ii), (c)(3)(iii), and (c)(3)(iv) are revised to read as follows:

§ 622.224 Area closures to protect South Atlantic corals.

* * * * *

(b) Oculina Bank HAPC—(1) HAPC is bounded by rhumb lines connecting, in order, the following points:

Point | North lat. | West long.
Origin | 29°43′29.82″ | 80°14′55.27″
1 | 29°43′30″ | 80°15′48.24″
2 | 29°34′51″ | 80°15′00.78″
3 | 29°34′07.38″ | 80°15′51.66″
4 | 29°29′24.9″ | 80°15′15.78″
5 | 29°09′32.52″ | 80°12′17.22″
6 | 29°04′45.18″ | 80°10′12″
7 | 28°56′01.86″ | 80°07′53.64″
8 | 28°52′44.4″ | 80°07′53.04″
9 | 28°47′28.56″ | 80°07′07.44″
10 | 28°46′13.68″ | 80°07′15.9″
11 | 28°41′16.32″ | 80°05′58.74″
12 | 28°35′05.76″ | 80°05′14.28″
13 | 28°33′50.94″ | 80°05′24.6″
14 | 28°30′51.36″ | 80°04′23.94″
15 | 28°30′00″ | 80°03′57.3″
16 | 28°30′ | 80°03′
17 | 28°16′ | 80°03′
18 | 28°04′30″ | 80°01′10.08″
19 | 28°04′30″ | 80°00′
20 | 27°30′ | 80°00′
21 | 27°30′ | 79°54′0″—Point corresponding with intersection with the 100-fathom (183-m) contour, as shown on the latest edition of NOAA chart 11460.
Note: Line between point 21 and point 22 follows the 100-fathom (183-m) contour, as shown on the latest edition of NOAA chart 11460.
22 | 28°30′00″ | 79°56′56″—Point corresponding with intersection with the 100-fathom (183-m) contour, as shown on the latest edition of NOAA chart 11460.
23 | 28°30′00″ | 80°00′46.02″
24 | 28°46′00.84″ | 80°03′28.5″
25 | 28°48′37.14″ | 80°03′56.76″
26 | 28°53′18.36″ | 80°04′48.84″
27 | 29°11′19.62″ | 80°08′36.9″
28 | 29°17′33.96″ | 80°10′06.9″
29 | 29°23′35.34″ | 80°11′30.06″
30 | 29°30′15.72″ | 80°12′38.88″
31 | 29°35′55.86″ | 80°13′41.04″
Origin | 29°43′29″ | 80°14′55.27″

(i) In the Oculina Bank HAPC, no person may:

(A) Use a bottom longline, bottom trawl, dredge, pot, or trap.

(B) If aboard a fishing vessel, anchor, use an anchor and chain, or use a grapple and chain.

(C) Fish for or possess rock shrimp in or from the Oculina Bank HAPC, except a shrimp vessel with a valid commercial vessel permit for rock shrimp that possesses rock shrimp may transit through the Oculina Bank HAPC if fishing gear is appropriately stowed. For the purpose of this paragraph, transit means a direct and non-stop continuous course through the area, maintaining a minimum speed of five knots as determined by an operating VMS and a VMS minimum ping rate of 1 ping per 5 minutes; fishing gear appropriately stowed means that doors and nets are out of the water and onboard the deck or below the deck of the vessel.

(ii) [Reserved]

* * * * *

(c) * * *

(1) * * *

(i) Cape Lookout Lophelia Banks CHAPC is bounded by rhumb lines connecting, in order, the following points:

Point | North lat. | West long.
Origin | 34°24′36.996″ | 75°45′10.998″
1 | 34°23′28.998″ | 75°43′58.002″
2 | 34°27′00″ | 75°41′45″
3 | 34°27′54″ | 75°42′45″
Origin | 34°24′36.996″ | 75°45′10.998″

* * * * *

(iii) Stetson Reefs, Savannah and East Florida Lithotherms, and Miami Terrace (Stetson-Miami Terrace) CHAPC is bounded by—

(A) Rhumb lines connecting, in order, the following points:

Point | North lat. | West long.
Origin | at outer boundary of EEZ | 79°00′00″
1 | 31°23′37″ | 79°00′00″
2 | 31°23′37″ | 77°16′21″
3 | 32°38′37″ | 77°16′21″
4 | 32°38′21″ | 77°34′06″
5 | 32°35′24″ | 77°37′54″
6 | 32°32′18″ | 77°40′26″
7 | 32°28′42″ | 77°44′10″
8 | 32°25′51″ | 77°47′43″
9 | 32°22′40″ | 77°52′05″
10 | 32°20′58″ | 77°56′29″
11 | 32°20′30″ | 77°57′50″
12 | 32°19′53″ | 78°00′49″
13 | 32°18′44″ | 78°04′35″
14 | 32°17′35″ | 78°07′48″
15 | 32°17′15″ | 78°10′41″
16 | 32°15′50″ | 78°14′09″
17 | 32°15′20″ | 78°15′25″
18 | 32°12′15″ | 78°16′37″
19 | 32°10′26″ | 78°18′09″
20 | 32°04′42″ | 78°21′27″
21 | 32°03′41″ | 78°24′07″
22 | 32°04′58″ | 78°29′19″
23 | 32°06′59″ | 78°30′48″
24 | 32°09′27″ | 78°31′31″
25 | 32°11′23″ | 78°32′47″
26 | 32°13′09″ | 78°34′04″
27 | 32°14′08″ | 78°34′36″
28 | 32°12′48″ | 78°36′34″
29 | 32°13′07″ | 78°39′07″
30 | 32°14′17″ | 78°40′01″
31 | 32°16′20″ | 78°40′18″
32 | 32°16′33″ | 78°42′32″
33 | 32°14′26″ | 78°43′23″
34 | 32°11′14″ | 78°45′42″
35 | 32°10′19″ | 78°49′08″
36 | 32°09′42″ | 78°52′54″
37 | 32°08′15″ | 78°56′11″
38 | 32°05′00″ | 79°00′30″
39 | 32°01′54″ | 79°02′49″
40 | 31°58′40″ | 79°04′51″
41 | 31°56′32″ | 79°06′48″
42 | 31°53′27″ | 79°09′18″
43 | 31°50′56″ | 79°11′29″
44 | 31°49′07″ | 79°13′35″
45 | 31°47′56″ | 79°16′08″
46 | 31°47′11″ | 79°16′30″
47 | 31°46′29″ | 79°16′25″
48 | 31°44′31″ | 79°17′24″
49 | 31°43′20″ | 79°18′27″
50 | 31°42′26″ | 79°20′41″
51 | 31°41′09″ | 79°22′26″
52 | 31°39′36″ | 79°23′59″
53 | 31°37′54″ | 79°25′29″
54 | 31°35′57″ | 79°27′14″
55 | 31°34′14″ | 79°28′24″
56 | 31°31′08″ | 79°29′59″
57 | 31°30′26″ | 79°29′52″
58 | 31°29′11″ | 79°30′11″
59 | 31°27′58″ | 79°31′41″
60 | 31°27′06″ | 79°32′08″
61 | 31°26′22″ | 79°32′48″
62 | 31°24′21″ | 79°33′51″
63 | 31°22′53″ | 79°34′41″
64 | 31°21′03″ | 79°36′01″
65 | 31°20′00″ | 79°37′12″
66 | 31°18′34″ | 79°38′15″
67 | 31°16′49″ | 79°38′36″
68 | 31°13′06″ | 79°38′19″
70 | 31°11′04″ | 79°38′39″
70 | 31°09′28″ | 79°39′09″
71 | 31°07′44″ | 79°40′21″
72 | 31°05′53″ | 79°41′27″
73 | 31°04′40″ | 79°42′09″
74 | 31°02′58″ | 79°42′28″
75 | 31°01′03″ | 79°42′40″
76 | 30°59′50″ | 79°42′43″
77 | 30°58′27″ | 79°42′43″
78 | 30°57′15″ | 79°42′50″
79 | 30°56′09″ | 79°43′28″
80 | 30°54′49″ | 79°44′53″
81 | 30°53′44″ | 79°46′24″
82 | 30°52′47″ | 79°47′40″
83 | 30°51′45″ | 79°48′16″
84 | 30°48′36″ | 79°49′02″
85 | 30°45′24″ | 79°49′55″
86 | 30°41′36″ | 79°51′31″
87 | 30°38′38″ | 79°52′23″
88 | 30°37′00″ | 79°52′37.2″
89 | 30°37′00″ | 80°05′00″
90 | 30°34′6.42″ | 80°05′54.96″
91 | 30°26′59.94″ | 80°07′41.22″
92 | 30°23′53.28″ | 80°08′8.58″
93 | 30°19′22.86″ | 80°09′22.56″
94 | 30°13′17.58″ | 80°11′15.24″
95 | 30°07′55.68″ | 80°12′19.62″
96 | 30°00′00″ | 80°13′00″
97 | 30°00′9″ | 80°09′30″
98 | 30°03′00″ | 80°09′30″
99 | 30°03′00″ | 80°06′00″
100 | 30°04′00″ | 80°02′45.6″
101 | 29°59′16″ | 80°04′11″
102 | 29°49′12″ | 80°05′44″
103 | 29°43′59″ | 80°06′24″
104 | 29°38′37″ | 80°06′53″
105 | 29°36′54″ | 80°07′18″
106 | 29°31′59″ | 80°07′32″
107 | 29°29′14″ | 80°07′18″
108 | 29°21′48″ | 80°05′01″
109 | 29°20′25″ | 80°04′29″
110 | 29°08′00″ | 79°59′43″
111 | 29°06′56″ | 79°59′07″
112 | 29°05′59″ | 79°58′44″
113 | 29°03′34″ | 79°57′37″
114 | 29°02′11″ | 79°56′59″
115 | 29°00′00″ | 79°55′32″
116 | 28°56′55″ | 79°54′22″
117 | 28°55′00″ | 79°53′31″
118 | 28°53′35″ | 79°52′51″
119 | 28°51′47″ | 79°52′07″
120 | 28°50′25″ | 79°51′27″
121 | 28°49′53″ | 79°51′20″
122 | 28°49′01″ | 79°51′20″
123 | 28°48′19″ | 79°51′10″
124 | 28°47′13″ | 79°50′59″
125 | 28°43′30″ | 79°50′36″
126 | 28°41′05″ | 79°50′04″
127 | 28°40′27″ | 79°50′07″
128 | 28°39′50″ | 79°49′56″
129 | 28°39′04″ | 79°49′58″
130 | 28°36′43″ | 79°49′35″
131 | 28°35′01″ | 79°49′24″
132 | 28°30′37″ | 79°48′35″
133 | 28°14′00″ | 79°46′20″
134 | 28°11′41″ | 79°46′12″
135 | 28°08′02″ | 79°45′45″
136 | 28°01′20″ | 79°45′20″
137 | 27°58′13″ | 79°44′51″
138 | 27°56′23″ | 79°44′53″
139 | 27°49′40″ | 79°44′25″
140 | 27°46′27″ | 79°44′22″
141 | 27°42′00″ | 79°44′33″
142 | 27°36′08″ | 79°44′58″
143 | 27°30′00″ | 79°45′29″
144 | 27°29′04″ | 79°45′47″
145 | 27°27′05″ | 79°45′54″
146 | 27°25′47″ | 79°45′57″
147 | 27°19′46″ | 79°45′14″
148 | 27°17′54″ | 79°45′12″
149 | 27°12′28″ | 79°45′00″
150 | 27°07′45″ | 79°46′07″
151 | 27°04′47″ | 79°46′29″
152 | 27°00′43″ | 79°46′39″
153 | 26°58′43″ | 79°46′28″
154 | 26°57′06″ | 79°46′32″
155 | 26°49′58″ | 79°46′54″
156 | 26°48′58″ | 79°46′56″
157 | 26°47′01″ | 79°47′09″
158 | 26°46′04″ | 79°47′09″
159 | 26°35′09″ | 79°48′01″
160 | 26°33′37″ | 79°48′21″
161 | 26°27′56″ | 79°49′09″
162 | 26°25′55″ | 79°49′30″
163 | 26°21′05″ | 79°50′03″
164 | 26°20′30″ | 79°50′20″
165 | 26°18′56″ | 79°50′17″
166 | 26°16′19″ | 79°54′06″
167 | 26°13′48″ | 79°54′48″
168 | 26°12′19″ | 79°55′37″
169 | 26°10′57″ | 79°57′05″
170 | 26°09′17″ | 79°58′45″
171 | 26°07′11″ | 80°00′22″
172 | 26°06′12″ | 80°00′33″
173 | 26°03′26″ | 80°01′02″
174 | 26°00′35″ | 80°01′13″
175 | 25°49′10″ | 80°00′38″
176 | 25°48′30″ | 80°00′23″
177 | 25°46′42″ | 79°59′14″
178 | 25°27′28″ | 80°02′26″
179 | 25°24′06″ | 80°01′44″
180 | 25°21′04″ | 80°01′27″
181 | 25°21′04″ | at outer boundary of EEZ

(B) The outer boundary of the EEZ in a northerly direction from Point 181 to the Origin.

* * * * *

(3) * * *

(i) Shrimp access area 1 is bounded by rhumb lines connecting, in order, the following points:

Point | North lat. | West long.
1 | 30°06′30″ | 80°02′2.4″
2 | 30°06′30″ | 80°05′39.6″
3 | 30°03′00″ | 80°09′30″
4 | 30°03′00″ | 80°06′00″
5 | 30°04′00″ | 80°02′45.6″
6 | 29°59′16″ | 80°04′11″
7 | 29°49′12″ | 80°05′44″
8 | 29°43′59″ | 80°06′24″
9 | 29°38′37″ | 80°06′53″
10 | 29°36′54″ | 80°07′18″
11 | 29°31′59″ | 80°07′32″
12 | 29°29′14″ | 80°07′18″
13 | 29°21′48″ | 80°05′01″
14 | 29°20′25″ | 80°04′29″
15 | 29°20′25″ | 80°03′11″
16 | 29°21′48″ | 80°03′52″
17 | 29°29′14″ | 80°06′08″
18 | 29°31′59″ | 80°06′23″
19 | 29°36′54″ | 80°06′00″
20 | 29°38′37″ | 80°05′43″
21 | 29°43′59″ | 80°05′14″
22 | 29°49′12″ | 80°04′35″
23 | 29°59′16″ | 80°03′01″
24 | 30°06′30″ | 80°00′53″

(ii) Shrimp access area 2 is bounded by rhumb lines connecting, in order, the following points:

Point | North lat. | West long.
Origin | 29°08′00″ | 79°59′43″
1 | 29°06′56″ | 79°59′07″
2 | 29°05′59″ | 79°58′44″
3 | 29°03′34″ | 79°57′37″
4 | 29°02′11″ | 79°56′59″
5 | 29°00′00″ | 79°55′32″
6 | 28°56′55″ | 79°54′22″
7 | 28°55′00″ | 79°53′31″
8 | 28°53′35″ | 79°52′51″
9 | 28°51′47″ | 79°52′07″
10 | 28°50′25″ | 79°51′27″
11 | 28°49′53″ | 79°51′20″
12 | 28°49′01″ | 79°51′20″
13 | 28°48′19″ | 79°51′10″
14 | 28°47′13″ | 79°50′59″
15 | 28°43′30″ | 79°50′36″
16 | 28°41′05″ | 79°50′04″
17 | 28°40′27″ | 79°50′07″
18 | 28°39′50″ | 79°49′56″
19 | 28°39′04″ | 79°49′58″
20 | 28°36′43″ | 79°49′35″
21 | 28°35′01″ | 79°49′24″
22 | 28°30′37″ | 79°48′35″
23 | 28°30′37″ | 79°47′27″
24 | 28°35′01″ | 79°48′16″
25 | 28°36′43″ | 79°48′27″
26 | 28°39′04″ | 79°48′50″
27 | 28°39′50″ | 79°48′48″
28 | 28°40′27″ | 79°48′58″
29 | 28°41′05″ | 79°48′56″
30 | 28°43′30″ | 79°49′28″
31 | 28°47′13″ | 79°49′51″
32 | 28°48′19″ | 79°50′01″
33 | 28°49′01″ | 79°50′13″
34 | 28°49′53″ | 79°50′12″
35 | 28°50′25″ | 79°50′17″
36 | 28°51′47″ | 79°50′58″
37 | 28°53′35″ | 79°51′43″
38 | 28°55′00″ | 79°52′22″
39 | 28°56′55″ | 79°53′14″
40 | 29°00′00″ | 79°54′24″
41 | 29°02′11″ | 79°55′50″
42 | 29°03′34″ | 79°56′29″
43 | 29°05′59″ | 79°57′35″
44 | 29°06′56″ | 79°57′59″
45 | 29°08′00″ | 79°58′34″
Origin | 29°08′00″ | 79°59′43″

(iii) Shrimp access area 3 is bounded by rhumb lines connecting, in order, the following points:

Point | North lat. | West long.
Origin | 28°14′00″ | 79°46′20″
1 | 28°11′41″ | 79°46′12″
2 | 28°08′02″ | 79°45′45″
3 | 28°01′20″ | 79°45′20″
4 | 27°58′13″ | 79°44′51″
5 | 27°56′23″ | 79°44′53″
6 | 27°49′40″ | 79°44′25″
7 | 27°46′27″ | 79°44′22″
8 | 27°42′00″ | 79°44′33″
9 | 27°36′08″ | 79°44′58″
10 | 27°30′00″ | 79°45′29″
11 | 27°29′04″ | 79°45′47″
12 | 27°27′05″ | 79°45′54″
13 | 27°25′47″ | 79°45′57″
14 | 27°19′46″ | 79°45′14″
15 | 27°17′54″ | 79°45′12″
16 | 27°12′28″ | 79°45′00″
17 | 27°07′45″ | 79°46′07″
18 | 27°04′47″ | 79°46′29″
19 | 27°00′43″ | 79°46′39″
20 | 26°58′43″ | 79°46′28″
21 | 26°57′06″ | 79°46′32″
22 | 26°57′06″ | 79°44′52″
23 | 26°58′43″ | 79°44′47″
24 | 27°00′43″ | 79°44′58″
25 | 27°04′47″ | 79°44′48″
26 | 27°07′45″ | 79°44′26″
27 | 27°12′28″ | 79°43′19″
28 | 27°17′54″ | 79°43′31″
29 | 27°19′46″ | 79°43′33″
30 | 27°25′47″ | 79°44′15″
31 | 27°27′05″ | 79°44′12″
32 | 27°29′04″ | 79°44′06″
33 | 27°30′00″ | 79°43′48″
34 | 27°30′00″ | 79°44′22″
35 | 27°36′08″ | 79°43′50″
36 | 27°42′00″ | 79°43′25″
37 | 27°46′27″ | 79°43′14″
38 | 27°49′40″ | 79°43′17″
39 | 27°56′23″ | 79°43′45″
40 | 27°58′13″ | 79°43′43″
41 | 28°01′20″ | 79°44′11″
42 | 28°04′42″ | 79°44′25″
43 | 28°08′02″ | 79°44′37″
44 | 28°11′41″ | 79°45′04″
45 | 28°14′00″ | 79°45′12″
Origin | 28°14′00″ | 79°46′20″

(iv) Shrimp access area 4 is bounded by rhumb lines connecting, in order, the following points:

Point | North lat. | West long.
Origin | 26°49′58″ | 79°46′54″
1 | 26°48′58″ | 79°46′56″
2 | 26°47′01″ | 79°47′09″
3 | 26°46′04″ | 79°47′09″
4 | 26°35′09″ | 79°48′01″
5 | 26°33′37″ | 79°48′21″
6 | 26°27′56″ | 79°49′09″
7 | 26°25′55″ | 79°49′30″
8 | 26°21′05″ | 79°50′03″
9 | 26°20′30″ | 79°50′20″
10 | 26°18′56″ | 79°50′17″
11 | 26°18′56″ | 79°48′37″
12 | 26°20′30″ | 79°48′40″
13 | 26°21′05″ | 79°48′08″
14 | 26°25′55″ | 79°47′49″
15 | 26°27′56″ | 79°47′29″
16 | 26°33′37″ | 79°46′40″
17 | 26°35′09″ | 79°46′20″
18 | 26°46′04″ | 79°45′28″
19 | 26°47′01″ | 79°45′28″
20 | 26°48′58″ | 79°45′15″
21 | 26°49′58″ | 79°45′13″
Origin | 26°49′58″ | 79°46′54″

* * * * *

[FR Doc. 2014-12655 Filed 6-2-14; 8:45 am]

BILLING CODE 3510-22-P